SECURITIES AND EXCHANGE COMMISSION

[File No. 500-1]

In the Matter of: Universal Property Development & Acquisition Corp.; Order of Suspension of Trading

May 10, 2010.

It appears to the Securities and Exchange Commission that there is a lack of current and accurate information concerning the securities of Universal Property Development & Acquisition Corp. (“Universal Property”) because it has not filed any periodic reports since the period ended March 31, 2008. Universal Property is quoted on the Pink Sheets operated by Pink OTC Markets, Inc. under the ticker symbol UPDV.

The Commission is of the opinion that the public interest and the protection of investors require a suspension of trading in the securities of the above-listed company.

Therefore, it is ordered, pursuant to Section 12(k) of the Securities Exchange Act of 1934, that trading in the securities of the above-listed company is suspended for the period from 9:30 a.m. EDT on May 10, 2010, through 11:59 p.m. EDT on May 21, 2010.

By the Commission.
Jill M. Peterson,
Assistant Secretary.

[FR Doc. 2010-11401 Filed 5-10-10; 4:15 pm]

BILLING CODE 8010-11-P